DEPARTMENT OF EDUCATION

Notice Reopening the Advanced Placement (AP) Test Fee Fiscal Year (FY) 2006 Competition

AGENCY: Office of Elementary and Secondary Education (OESE), Department of Education.

Catalog of Federal Domestic Assistance (CFDA) Number: 84.330B.

SUMMARY: On January 19, 2006, we published in the Federal Register (71 FR 3062) a notice inviting applications for the AP Test Fee FY 2006 competition. The original notice for this FY 2006 competition established a February 21, 2006 deadline date for eligible applicants to apply for funding under this program.

In order to afford as many eligible applicants as possible an opportunity to receive funding under this program, we are reopening the AP Test Fee FY 2006 competition. The new application deadline date for the competition is April 12, 2006.

DATES: Deadline for Transmittal of Applications: April 12, 2006, 4:30 p.m., Washington, DC, time.

Note: Applications for grants under the AP Test Fee program must be submitted electronically using the Grants.gov Apply site. You can access the electronic application, along with complete instructions for applying via Grants.gov, for the AP Test Fee program at: http://www.Grants.gov/. Once you access this site, you will receive specific instructions for completing your application and the electronic submission process. You must follow these requirements to ensure that your application is received by the Department no later than 4:30 p.m., Washington, DC, time, on the application deadline date.

Deadline for Intergovernmental Review: The deadline date for Intergovernmental Review under Executive Order 12372 remains as originally published, April 19, 2006.

SUPPLEMENTARY INFORMATION: Any eligible applicant may apply for funding under this program by the deadline in this notice. Eligible applicants that submitted their applications for the AP Test Fee FY 2006 competition to the Department prior to the competition's original deadline date of February 21, 2006, are not required to re-submit their applications or re-apply in order to be considered for FY 2006 awards under this program. We encourage eligible applicants to submit their applications as soon as possible to avoid any problems with filing electronic applications on the last day. The deadline for submission of applications will not be extended any further.

FOR FURTHER INFORMATION CONTACT: Madeline E. Baggett, U.S. Department of Education, 400 Maryland Avenue, SW., room 3C153, Washington, DC 20202-6200. Telephone: (202) 260-2502 or by e-mail: madeline.baggett@ed.gov.

If you use a telecommunications device for the deaf (TDD), you may call the Federal Relay Service (FRS) at 1-800-877-8339.

Individuals with disabilities may obtain this document in an alternative format (e.g., Braille, large print, audiotape, or computer diskette) on request to the program contact person listed in this section.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 8, 2006.
Henry L. Johnson,
Assistant Secretary for Elementary and Secondary Education.

[FR Doc. E6-3523 Filed 3-10-06; 8:45 am]

BILLING CODE 4000-01-P